DEPARTMENT OF DEFENSE

Office of the Secretary

Department of Defense Federal Advisory Committees—Education for Seapower Advisory Board

AGENCY: Department of Defense (DoD).

ACTION: Federal advisory committee renewal.

SUMMARY: The DoD is publishing this notice to announce that it is renewing the Education for Seapower Advisory Board (E4SAB).

FOR FURTHER INFORMATION CONTACT: Jim Freeman, DoD Advisory Committee Management Officer, 703-692-5952.

SUPPLEMENTARY INFORMATION: The DoD is renewing the E4SAB in accordance with chapter 10 of title 5 United States Code (U.S.C.) (commonly known as the “Federal Advisory Committee Act” or “FACA”)) and 41 CFR 102-3.50(d). The charter and contact information for the E4SAB's Designated Federal Officer (DFO) are found at https://www.facadatabase.gov/FACA/apex/FACAPublicAgencyNavigation.

The E4SAB provides the Secretary of Defense and the Deputy Secretary of Defense (“DoD Appointing Authority”), through the Secretary of the Navy, with independent advice and recommendations on matters relating to the Naval University System, and specifically, the U.S. Naval Community College, the Naval Postgraduate School, and the Naval War College. The E4SAB shall: (a) Provide advice on naval education strategy and implementation thereof; (b) provide advice on organizational management, curricula and methods of instruction, facilities, other issues of accreditation, and other matters of interest.

The E4SAB shall be composed of no more than 15 members appointed in accordance with DoD policies and procedures, who are imminent authorities in the fields of academia, business, national defense and security, the defense industry, and research and analysis. Not less than 50 percent of E4SAB members shall be eminent authorities in the field of academia. The Deputy Chief of Naval Operations for Manpower, Personnel, Training and Education, the Deputy Chief of Naval Operations for Warfighting Development, and the Commanding General, U.S. Marine Corps Training and Education Command shall serve as ex-officio members of the Board, having voting rights and counting toward the E4SAB's total membership.

Individual members are appointed according to DoD policy and procedures, and serve a term of service of one-to-four years with annual renewals. One member will be appointed as Chair of the E4SAB. No member, unless approved according to DoD policy and procedures, may serve more than two consecutive terms of service on the E4SAB, or serve on more than two DoD Federal advisory committees at one time.

E4SAB members who are not full-time or permanent part-time Federal civilian officers or employees, or active duty members of the Uniformed Services, are appointed as experts or consultants, pursuant to 5 U.S.C. 3109, to serve as special government employee members. E4SAB members who are full-time or permanent part-time Federal civilian officers or employees, or active duty members of the Uniformed Services are appointed pursuant to 41 CFR 102-3.130(a), to serve as regular government employee members.

All E4SAB members are appointed to provide advice based on their best judgment without representing any particular point of view and in a manner that is free from conflict of interest. Except for reimbursement of official E4SAB-related travel and per diem, members serve without compensation.

The public or interested organizations may submit written statements about the E4SAB's mission and functions. Written statements may be submitted at any time or in response to the stated agenda of planned meeting of the E4SAB. All written statements shall be submitted to the DFO for the E4SAB, and this individual will ensure that the written statements are provided to the membership for their consideration.

Dated: June 20, 2024.
Aaron T. Siegel,
Alternate OSD Federal Register Liaison Officer, Department of Defense.

[FR Doc. 2024-13962 Filed 6-25-24; 8:45 am]

BILLING CODE 6001-FR-P